DEPARTMENT OF TRANSPORTATION

Federal Railroad Administration

[Docket Number FRA-2018-0083]

Petition for Extension of Waiver of Compliance

Under part 211 of title 49 Code of Federal Regulations (CFR), this document provides the public notice that by letter dated June 4, 2024, BNSF Railway (BNSF) petitioned the Federal Railroad Administration (FRA) for an extension of a waiver of compliance from certain provisions of the Federal railroad safety regulations contained at 49 CFR part 225 (Railroad Accidents/Incidents: Reports Classification, and Investigations). The relevant Docket Number is FRA-2018-0083.

Specifically, BNSF requests to extend the existing relief from § 225.25(h), Recordkeeping, which requires that a railroad post “a listing of all injuries and occupational illnesses reported to FRA as having occurred at an establishment . . . in a conspicuous location at that establishment.” Instead, BNSF makes the required information available via a “web portal accessible to all employees” as a “paperless injury log.”

In support of its request, BNSF stated that its paperless log “enhances [BNSF's] employees' ability to access the required information and the scope of the information each employee can access.” BNSF further explained that the information can be accessed from anywhere through an internet-connected device. Additionally, the paperless log enables a review of injuries and occupational illnesses that were reported at all BNSF establishments and for time periods greater than 12 months. BNSF also stated that it “has received no negative feedback about the paperless injury log process or complaints that this information is not posted in paper form.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 2, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
Carolyn Hayward-Williams,
Director, Office of Railroad Systems and Technology.

[FR Doc. 2024-22739 Filed 10-2-24; 8:45 am]

BILLING CODE 4910-06-P